DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 28, 2017.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on August 31, 2017.
Donald Burger,
Chief, Office of the Special Permits and Approvals.

Special Permits Data
Application No. | Docket No. | Applicant | Regulation(s) affected | Nature of the special permits thereof
14768-M |  | Tobin & Sons Moving & Storage, Inc | 173.196(a), 173.196(b), 173.199 | To modify the special permit to adjust the allowable temperature range and other editorial corrections. (Mode 1).
14933-M |  | Tobin & Sons Moving & Storage, Inc | 173.196(a), 173.196(b), 173.199, 178.609 | To modify the permit to authorize a change in the operating temperature range. (Mode 1).
14951-M |  | Hexagon Lincoln, Inc | 173.301(f), 173.302(a) | To authorize the manufacture, mark, sell and use of a 12,000-liter cylinder. (Modes 1,2,3).
16232-M |  | Linde Gas North America LLC | 171.23(a), 171.23(a)(2)(ii), 171.23(a)(3), 173.301(f)(3), 173.301(g) | To modify the special permit to authorize additional cylinders for the transportation in commerce of Xenon/Krypton. (Modes 1,2,3).
20232-M |  | Leidos Biomedical Research, Inc | 173.196, 178.503(f), 178.609 | To modify the special permit to authorize an additional Division 6.1 material. (Mode 1).
20352-M |  | Schlumberger Technology Corp | 173.201(c), 173.202(c), 173.203(c), 173.301(f), 173.302(a), 173.304(a), 173.304(d) | To modify the special permit to authorize cargo only aircraft transportation and to include additional testing requirements. (Modes 1,2,3,4).

[FR Doc. 2017-19343 Filed 9-12-17; 8:45 am]

BILLING CODE 4909-60-P